DEPARTMENT OF HOUSING AND URBAN DEVELOPMENT

[Docket No. FR-5831-N-39]

30-Day Notice of Proposed Information Collection: Application for FHA Insured Mortgages (Form HUD-92900-A)

AGENCY: Office of the Assistant Secretary for Housing/Federal Housing Commissioner, HUD.

ACTION: Notice.

SUMMARY: HUD has submitted the proposed information collection requirement described below to the Office of Management and Budget (OMB) for review, in accordance with the Paperwork Reduction Act. The purpose of this notice is to allow for an additional 30 days of public comment. Elsewhere in today's edition of the Federal Register, HUD is publishing for public comment, for a period of 60 days, a notice that proposes changes to information collected under FHA Lender Approval, Annual Renewal, Periodic Updates and Required Reports by FHA-Approved Lenders. The proposed changes to these two documents are intended to not only bring these two collections of information up-to-date, but to improve clarity and HUD's enforcement capabilities.

DATES: Comments Due Date: October 1, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette Pollard@hud.gov or telephone 202-402-3400. This is not a toll-free number. Persons with hearing or speech impairments may access this number through TTY by calling the toll-free Federal Relay Service at (800) 877-8339. Copies of available documents submitted to OMB may be obtained from Ms. Pollard. Stakeholders may also view the proposed changes to the certifications at: http://portal.hud.gov/hudportal/HUD?src=/program_offices/housing/sfh/SFH_policy_drafts.

SUPPLEMENTARY INFORMATION: This notice informs the public that HUD is seeking approval from OMB for the information collection described in Section A. The Federal Register notice (Docket No. FR-5835-N-06) that solicited public comment on the information collection for a period of 60 days was published on May 15, 2015.

A. Overview of Information Collection

Title of Information Collection: Application for FHA Insured Mortgages.

OMB Approval Number: 2502-0059.

Type of Request: Revision of currently approved collection.

Form Numbers: HUD-92900-A, HUD-92900-B, HUD-92900-LT, HUD-92561, Model Notice for Informed Consumer Choice Disclosure, and Model Pre-Insurance Review/Checklist.

Description of the need for the information and proposed use: Specific forms related documents are needed to determine the eligibility of the borrower and proposed mortgage transaction for FHA's insurance endorsement. Lenders seeking FHA's insurance prepare certain forms to collect data. The proposed revisions to form HUD 92900-A, FHA/VA Addendum to Uniform Residential Loan Application showing both the changes that were proposed with the 60-day notice and additional revisions in response to comments received from the 60-day notice are posted on HUD's Web site at: http://portal.hud.gov/hudportal/HUD?src=/program_offices/housing/sfh/SFH_policy_drafts.

HUD received eight public comments in response to the 60-day notice. A summary of the comments and HUD's responses to the comments can also be found at http://portal.hud.gov/hudportal/HUD?src=/program_offices/housing/sfh/SFH_policy_drafts.

Respondents: Regulatory or compliance.

Estimated Number of Respondents: 11,604.

Estimated Number of Responses: 4,743,185.

Frequency of Response: 1 document per loan.

Average Hours per Response: 90 minutes.

Total Estimated Burdens: 534,931.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: Section 3507 of the Paperwork Reduction Act of 1995, 44 U.S.C. Chapter 35.

Dated: August 26, 2015.
Robert E. Mulderig,
Associate Deputy Assistant Secretary for Single Family Housing.

[FR Doc. 2015-21515 Filed 8-31-15; 8:45 am]

BILLING CODE 4210-67-P